NUCLEAR REGULATORY COMMISSION

[Docket No. 50-391; NRC-2008-0369]

Draft Supplement 2 to Final Environmental Statement Related to the Operation of Watts Bar Nuclear Plant, Unit 2; Tennessee Valley Authority

AGENCY: Nuclear Regulatory Commission (NRC).

ACTION: Draft environmental statement; opportunity to comment and public meeting.

SUMMARY: The U.S. Nuclear Regulatory Commission (NRC) is requesting comments on NUREG-0498, “Final Environmental Statement, Supplement 2, Related to the Operation of Watts Bar Nuclear Plant [WBN], Unit 2—Draft Report for Comment” (draft SFES). The NRC will hold a public meeting on the draft SFES on December 8, 2011.

DATES: Submit comments by December 27, 2011. Comments received after this date will be considered if it is practical to do so, but the NRC is able to ensure consideration only for comments received on or before this date.

ADDRESSES: Please include Docket ID NRC-2008-0369 in the subject line of your comments. For additional instructions on submitting comments and instructions on accessing documents related to this action, see “Submitting Comments and Accessing Information” in the SUPPLEMENTARY INFORMATION section of this document. You may submit comments by any of the following methods:

• Federal Rulemaking Web Site: Go to http://www.regulations.gov and search for documents filed under Docket ID NRC-2008-0369. Address questions about NRC dockets to Carol Gallagher, telephone: (301) 492-3668; email: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at (301) 492-3446.

• Verbal comments at: Public meeting on December 8, 2011. See Section IV, Submitting Comments at Public Meeting, of this document for more information regarding the public meeting.

FOR FURTHER INFORMATION CONTACT: Carmen G. Fells, Project Manager, Environmental Review and Guidance Update Branch, Division of License Renewal, U.S. Nuclear Regulatory Commission, Washington, DC 20555-0001; telephone: (301) 415-6337; email: Carmen.Fells@nrc.gov.

SUPPLEMENTARY INFORMATION:

I. Submitting Comments and Accessing Information

Comments submitted in writing or in electronic form will be posted on the NRC Web site and on the Federal rulemaking Web site, http://www.regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

You can access publicly available documents related to this document using the following methods:

• NRC's Public Document Room (PDR): The public may examine and have copied, for a fee, publicly available documents at the NRC's PDR, Room O1-F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1-(800) 397-4209, (301) 415-4737, or by email to pdr.resource@nrc.gov. The draft SFES is available electronically under ADAMS Accession Number ML112980199.

• Federal Rulemaking Web Site: Public comments and supporting materials related to this notice can be found at http://www.regulations.gov by searching on Docket ID NRC-2008-0369.

II. Background

The Tennessee Valley Authority (TVA or the applicant) submitted its Final Supplemental Environmental Impact Statement for the Completion and Operation of WBN Unit 2 (June 2007) (FSEIS) by letter dated February 15, 2008 (ADAMS Accession No. ML080510469), pursuant to Part 51 of Title 10 of the Code of the Federal Regulations (10 CFR).

On June 30, 1976, TVA submitted an application for an operating license for WBN Unit 2, pursuant to 10 CFR Part 50. An updated operating license application was submitted on March 4, 2009. The proposed action in response to the updated application is the issuance of an operating license that would authorize TVA to possess, use, and operate a second light-water nuclear reactor (the facility), WBN Unit 2, located on the applicant's site in Rhea County, Tennessee. The WBN Unit 2 would operate at a steady-state power level of 3411 megawatts thermal.

A notice of receipt and availability of the updated application, which included the FSEIS, was published in the Federal Register on May 1, 2009 (74 FR 20350). A notice of intent to prepare a supplement to the final environmental statement, which was prepared and published in 1978 and to conduct the scoping process was published in the Federal Register on September 11, 2009 (74 FR 46799). On October 6, 2009, the NRC held two scoping meetings in Sweetwater, Tennessee, to obtain public input on the scope of the environmental review. The NRC also solicited comments from Federal, State, Tribal, regional, and local agencies.

III. Purpose

The purpose of this document is to inform the public that a draft SFES related to the review of the operating license application has been prepared in accordance with 10 CFR 51.92 and to provide the public an opportunity to comment.

IV. Submitting Comments at Public Meeting

The NRC staff will hold a public meeting to present an overview of the draft SFES and to accept public comments on the document. The public meeting will be held at the Magnuson Hotel at 1421 Murrays Chapel Road in Sweetwater, Tennessee, on Thursday, December 8, 2011. The meeting will consist of two sessions, which will cover the same subjects. The sessions will convene at 2 p.m. and 6:30 p.m. and will continue until 4 p.m. and 8:30 p.m., as necessary. The meeting will be transcribed and will include: (1) A presentation of the contents of the draft SFES and (2) the opportunity for interested government agencies, organizations, and individuals to provide comments on the draft SFES. Additionally, the NRC staff will host informal discussions 1 hour before the start of each meeting session. No formal comments on the draft SFES will be accepted during the informal discussions. To be considered, comments must be provided either at the transcribed public meeting sessions or by any of the methods provided in the ADDRESSES section of this document. Persons may register to attend or present oral comments at the meeting by contacting Ms. Carmen Fells, by telephone at 1-(800) 368-5642, extension 6337, or by email at Carmen.Fells@nrc.gov no later than December 1, 2011. Ms. Fells will need to be contacted no later than November 28, 2011, if special equipment or accommodations are needed to attend or present information at the public meeting, so that the NRC staff can determine whether the request can be accommodated.

Dated at Rockville, Maryland, this 2nd day of November 2011.
For the Nuclear Regulatory Commission.
Stephen J. Campbell,
Chief, Watts Bar Special Projects Branch, Division of Operating Reactor Licensing, Office of Nuclear Reactor Regulation.

[FR Doc. 2011-29130 Filed 11-9-11; 8:45 am]

BILLING CODE 7590-01-P